ENVIRONMENTAL PROTECTION AGENCY

[EPA-HQ-OPP-2014-0673; FRL-9916-61]

Cancellation of Pesticides for Non-Payment of Year 2014 Registration Maintenance Fees; Summary of Orders Issued

AGENCY: Environmental Protection Agency (EPA).

ACTION: Notice.

SUMMARY: Under the Federal Insecticide, Fungicide, and Rodenticide Act (FIFRA), the payment of an annual maintenance fee is required to keep pesticide registrations in effect. The fee due last January 15, 2014, has gone unpaid for 199 registrations. If the fee is not paid, the EPA Administrator may cancel these registrations by order and without a hearing; orders to cancel these registrations have been issued.

FOR FURTHER INFORMATION CONTACT: Mick Yanchulis, Information Technology and Resources Management Division (7502P), Office of Pesticide Programs, Environmental Protection Agency, 1200 Pennsylvania Ave. NW., Washington, DC 20460-0001; telephone number: (703) 347-0237; email address: yanchulis.michael@epa.gov.

Product-specific status inquiries may be made by calling toll-free, 1-800-444-7255.

SUPPLEMENTARY INFORMATION:

I. General Information

A. Does this action apply to me?

This action is directed to the public in general. Although this action may be of particular interest to persons who produce or use pesticides, the Agency has not attempted to describe all the specific entities that may be affected by this action.

B. How can I get copies of this document and other related information?

The docket for this action, identified by docket identification (ID) number EPA-HQ-OPP-2014-0673, is available at http://www.regulations.gov or at the Office of Pesticide Programs Regulatory Public Docket (OPP Docket) in the Environmental Protection Agency Docket Center (EPA/DC), West William Jefferson Clinton Bldg., Rm. 3334, 1301 Constitution Ave. NW., Washington, DC 20460-0001. The Public Reading Room is open from 8:30 a.m. to 4:30 p.m., Monday through Friday, excluding legal holidays. The telephone number for the Public Reading Room is (202) 566-1744, and the telephone number for the OPP Docket is (703) 305-5805. Please review the visitor instructions and additional information about the docket available at http://www.epa.gov/dockets.

Complete lists of registrations canceled for non-payment of the maintenance fee are also available for reference in the OPP Docket.

II. Background

Section 4(i)(5) of FIFRA (7 U.S.C. 136a-1(i)(5)) requires that all pesticide registrants pay an annual registration maintenance fee, due by January 15 of each year, to keep their registrations in effect. This requirement applies to all registrations granted under FIFRA section 3 as well as those granted under FIFRA section 24(c) to meet special local needs. Registrations for which the fee is not paid are subject to cancellation by order and without a hearing.

Under FIFRA, the EPA Administrator may reduce or waive maintenance fees for minor agricultural use pesticides when it is determined that the fee would be likely to cause significant impact on the availability of the pesticide for the use.

In fiscal year 2014, maintenance fees were collected in one billing cycle. In late November of 2013, all holders of either FIFRA section 3 registrations or FIFRA section 24(c) registrations were sent lists of their active registrations, along with forms and instructions for responding. They were asked to identify which of their registrations they wished to maintain in effect, and to calculate and remit the appropriate maintenance fees. Most responses were received by the statutory deadline of January 15. A notice of intent to cancel was sent in April of 2014 to companies who did not respond and to companies who responded, but paid for less than all of their registrations. Since mailing the notices of intent to cancel, EPA has maintained a toll-free inquiry number through which the questions of affected registrants have been answered.

In fiscal year 2014, the Agency has waived the fee for 266 minor agricultural use registrations at the request of the registrants. Maintenance fees have been paid for about 15,999 FIFRA section 3 registrations, or about 97% of the registrations on file in December 2013. Fees have been paid for about 1,746 FIFRA section 24(c) registrations, or about 88% of the total on file in December 2013. Cancellations for non-payment of the maintenance fee affect about 194 FIFRA section 3 registrations and about 5 FIFRA section 24(c) registrations.

The cancellation orders generally permit registrants to continue to sell and distribute existing stocks of the canceled products until January 15, 2015, 1 year after the date on which the fee was due. Existing stocks already in the hands of dealers or users, however, can generally be distributed, sold, or used legally until they are exhausted. Existing stocks are defined as those stocks of a registered pesticide product which are currently in the United States and which have been packaged, labeled, and released for shipment prior to the effective date of the cancellation order.

The exceptions to these general rules are cases where more stringent restrictions on sale, distribution, or use of the products have already been imposed, through special reviews or other Agency actions. These general provisions for disposition of stocks should serve in most cases to cushion the impact of these cancellations while the market adjusts.

III. Listing of Registrations Canceled for Non-Payment

Table 1 of this unit lists all of the FIFRA section 24(c) registrations, and Table 2 of this unit lists all of the FIFRA section 3 registrations which were canceled for non-payment of the 2014 maintenance fee. These registrations have been canceled by order and without hearing. Cancellation orders were sent to affected registrants via certified mail in the past several days. The Agency is unlikely to rescind cancellation of any particular registration unless the cancellation resulted from Agency error.

Table 1—FIFRA Section 24(c) Registrations Cancelled for Non-Payment of 2014 Maintenance Fee
SLN No. | Product name
CA-08-0018 | Beleaf 50 SG Insecticide.
HI-03-0003 | Dormex.
NY-12-0003 | Tsunami DQ.
OR-10-0007 | Bird Shield Bird Repellent Concentrate.
SD-98-0005 | Compound Drc-1339 Concentrate-Staging Areas.

Table 2—FIFRA Section 3 Registrations Cancelled for Non-Payment of 2014 Maintenance Fee
Registration No. | Product name
000527-00108 | Ml-17G.
000527-00129 | D.C. San.
000641-00001 | Gopher-Go.
000641-00002 | Gopher-Go Ag Bait.
000777-00097 | Twister 2.
000777-00116 | Suzie Q.
001022-00518 | Cunapsol-1.
001022-00522 | Cunapsol-5.
001022-00536 | Pol-Nu Curap 20.
001270-00029 | Zep-O-San.
001270-00204 | Zep Veto Germicidal Bowl Cleaner.
001769-00266 | Al-Chek.
001769-00374 | Ancocide 4010.
003546-00041 | Shoofly Flying Insect Killer.
003573-00056 | Tide With Bleach II.
003573-00058 | Gain With Bleach II.
004713-00004 | Kenya Pyrethrum Extract Crude Concentrate A.
005073-00021 | Tox-O-Wik II.
007627-00021 | Stockade Fly Control Mineral Mix.
007627-00022 | Stockade Fly Control Block.
007627-00026 | Stockade Fly Control For Horses With Rabon Oral Larvicide.
007687-00003 | Root Force.
007698-00019 | Fly Patrol 19.
007698-00020 | Fly Patrol 4.
007698-00021 | Rolyx Fescue Mag.
008154-00009 | Sanamax Swimming Pool Water Disinfectant.
008668-00001 | Dog Shield.
008730-00073 | Hercon Disrupt Bio-Flake LBAM.
008730-00076 | Hercon Disrupt Bio-Tie LBAM.
009198-00118 | The Andersons Dithiopyr Herbicide I.
009198-00157 | The Andersons GC Fertilizer Plus 0.029% Bifenthrin.
009198-00159 | The Andersons Fertilizer Plus O.029% Bifenthrin.
009198-00196 | The Andersons Golf Products Fertilizer Plus Fungicide Vii.
009198-00224 | The Andersons GC 0.15% Granular Bifenthrin Insecticide.
009198-00226 | The Andersons Insect Killer Granules With 0.15% Bifenthrin.
009198-00229 | Andersons Golf Products Fluid Fungicide.
009198-00232 | The Andersons Fertilizer Bait Granules Plus 0.058% Bifenthrin.
009198-00243 | The Andersons Ferti-Bait FA With Distance.
009215-00008 | All Clear Granular Swimming Pool & Spa Sanitizer.
009404-00081 | Weed & Feed With 1.28% Atrazine For St. Augustine Lawns.
009404-00093 | Sunniland Atra-4 St. Augustine Lawn Weed Killer.
009436-00002 | Sodium Hypochlorite Solution.
009591-00170 | Prokill Choice Insecticide.
009608-00002 | Roach Prufe.
009608-00003 | Termite Prufe.
009768-00047 | Iodine Concentrate 20.
009902-00003 | Disposer Care Garbage Disposer Cleaner & Disinfectant (Sanitizer).
010190-00016 | Citridyne.
010613-00001 | Conclor.
010772-00003 | Armicarb Sodium Bicarbonate, F.C.C.
011411-00006 | Leslie's Refillable Chlorinator Cartridge.
011411-00007 | Leslie's Algi-Kill.
011411-00017 | Spa Chlor Brite III.
011623-00046 | Multipurpose Insect Spray.
011930-00001 | Omego Mist ULV.
011930-00006 | Pervade Mosquito Larvicide Petroleum Oil.
011930-00007 | Pyrifos Mist ULV 2 E.C.
011930-00010 | Pyrifos One Mist ULV E.C.
011930-00014 | Opti Mist 31-66 ULV.
011930-00016 | Actiperm 10% E.C. Multi-Purpose Insecticide.
021718-20001 | Hypochlorite Solution.
033270-00016 | Tomahawk.
033871-20001 | Sodium Hypochlorite Solution 15.
035896-00019 | Copper Sulfate Pentahydrate.
042850-00001 | Results Indoor Insect Killer.
042850-00004 | Diatect Multipurpose Insecticide II.
042850-00005 | Diatect Insecticide V.
044446-00069 | Ppp Flea & Tick Cycleblock Total Release Fogger.
045728-00031 | Vancide Mz-96.
045849-00001 | Chlorine Liquified Gas Under Pressure.
046043-00015 | Swimming Pool Chlorinating Shock.
046923-00012 | Coppercide 50.
049403-00014 | Nipacide X.
049403-00020 | Nipa Bit Press Paste.
049403-00026 | Nipacide Bit 10.
050675-00002 | Pink Boll Worm Pheromone Technical.
051549-20002 | SAF-T-Chlor.
051934-00007 | Liquid Ant Killer Bait.
052991-00013 | Mosquitol-L.
053053-00009 | Bioshield 50.
053053-00010 | Bioshield 150.
053053-00011 | Envirosystems Proshield 3651 I.
053053-00012 | Envirosystems Proshield 3651 D.
054382-00003 | Taktic E.C.
055195-00003 | Coldcide 0.25%.
056362-00004 | Sodium Hypochlorite—12.5.
058035-00016 | Ceannard Diuron 80DF.
058035-00018 | Ceannard Diuron/Bromacil 80DF.
058035-00019 | Ceannard Bromacil 80DF.
058185-00005 | Koban 30.
058185-00032 | Duosan Broad Spectrum Contact Ornamental Fungicide.
058880-00003 | 12.5% Sodium Hypochlorite Solution.
059074-00005 | Superchlor 7.
059807-00007 | Marathon 1% Granular.
059807-00008 | Marathon 60 WP.
060061-00011 | Pettit Marine Paint Premium Line Super Premium Performance Antifouling.
060061-00015 | Woolsey/Z*Spar Super Tox Anti-Fouling Finish B-71 Blue.
060061-00030 | Wood Treat MB Concentrate.
060061-00044 | Pettit Marine Paint Anti-Fouling 1636 Red Yacht Copper.
060061-00081 | Acp-60 Ablative Copper Polymer Antifouling Bottom Paint.
060061-00088 | Sscc-3359 Sap Stain Control Concentrate.
060061-00093 | Double Diamond Sapstain Control Chemical.
060061-00105 | Woodlife Ii Stain And Wood Preservative.
060061-00113 | LTC-3.
062498-00005 | Pool Pride 80z Chlorinating Sticks.
062575-00006 | Biestergard Captan 50-WP.
065458-00006 | Plato Industries Pest Strip.
065615-00003 | Scoot Tm Squirrel.
066338-00001 | Sodium Hypochlorite Solution.
067071-00053 | Acticide Mkw1.
067470-00006 | Ethylene Oxide.
067470-00007 | Ethylene Oxide 100 R.
067470-00008 | Oxyfume 2000.
067470-00009 | Oxyfume 2002.
067470-00010 | Steriflo.
067517-00054 | Permethrin Wettable Powder Packet.
067771-00001 | Moss-Kil Roof Strip.
068543-00038 | Bengal Insecticide Concentrate 5.
068849-20001 | Sodium Hypochlorite Solution.
068868-00003 | Surcide ICP-A.
068934-00001 | Aqua Select Water Filter.
069361-00028 | Topdog 41% Plus.
069361-00029 | Pendim Weed And Feed.
069361-00031 | Pendim 3.3 EC Herbicide.
069361-00032 | Pendim H20 Herbicide.
069361-00034 | Triclopyr Butoxyethyl Ester Technical.
069361-00042 | Repar Fipronil Technical.
069587-00003 | Timbercote 2000a.
070369-00001 | Microstat 2.
070567-00002 | Sodium Hypochlorite Solution (12.5%).
070585-00002 | Larvadex 2sl.
070778-00001 | Squirrel Away.
071065-00002 | Companion Dry Concentrate Biological Fungicide.
071218-00001 | Genesis Xtra.
071771-00001 | Messenger.
072159-00002 | Imidapro 2SC Systemic Insecticide.
072160-00001 | Peroxy-Solv.
072637-00002 | Green Screen Powder Animal Repellent.
072790-00001 | Pin Nip 2EC.
072852-00003 | Electrolite 25.
072852-00004 | Electrolite 31.
072897-00001 | Triosyn T50.
072897-00002 | Triosyn T50 Powder.
073748-00003 | Kontrol 2-2.
074843-00004 | Insect Shield Concentrate 15D.
074943-00001 | Mega-Lure 3000.
075341-00006 | Osmose Flurods.
075341-00011 | Cop-R-Nap.
075341-00015 | Ord-X029.
075512-00001 | Ebiox Trukleen Wipes.
075630-00001 | Zinc Borate.
079442-00010 | Exosex C.
079442-00012 | Exosex OF.
079533-00004 | Coleman Insect Repellent.
080967-00007 | Revolution.
081910-00002 | TCMTB.
081910-00003 | Casacide T200.
081974-00001 | Gasco Sanitizing Solution.
082539-00002 | Bug Candle.
083222-00011 | Lambda-Cy Ag Gold.
083529-00007 | Sharda Imidacloprid 75 WP Ag.
083529-00008 | Sharda Imidacloprid 75 WP T&O Insecticide.
083529-00009 | Sharda Imidacloprid 75 WP PCO Insecticide.
083529-00029 | Tebu 45DF.
083857-00003 | Mguard.
084059-00005 | Moi-401 EP.
084888-00001 | Nivalis Technical.
084888-00002 | Nivalis.
085125-00002 | Attractive Toxic Sugar Bait.
085724-00002 | Aako Chlorpyrifos Technical.
085948-00002 | Cb-104.
086461-00001 | Glyphosate 41%.
086461-00006 | Mepiquat Chloride 4.2%.
086461-00015 | Lambda-Cyhalothrin 13% EC Insecticide.
086516-00001 | Bug Blockade Insecticide.
086868-00001 | Phortress Fungicide.
086871-00001 | Kill Fleas Dead.
087134-00003 | Sh-12.5.
087273-00003 | Tri Pro Tabs.
087290-00006 | Willowood Glyphonator 41%.
087290-00014 | Willowood Imidacloprid 4SC.
087290-00015 | Willowood Glyphosate 4.
087290-00021 | Willowood Imidacloprid 2SC.
087290-00023 | Willowood Glyphosate 41%.
088211-00001 | BC 250.
088800-00002 | Appox-D 3000.
089016-00002 | Lag 2.
089016-00003 | Lag 3.
089016-00004 | Lag 4.
089016-00005 | Lag 5.
089103-00001 | Cloractive.
089385-00001 | Ryzofuel.
089466-00001 | Classic Pools Chlorine Solution.
089557-00001 | Green Label.

IV. Provisions for Disposition of Existing Stocks

The effective date of cancellation will be the date of the cancellation order. The orders effecting these requested cancellations will generally permit a registrant to sell or distribute existing stocks until January 15, 2015, 1 year after the date on which the fee was due.

Existing stocks are those stocks of registered pesticide products which are currently in the United States and which have been packaged, labeled, and released for shipment prior to the effective date of the cancellation order. Unless the provisions of an earlier order apply, existing stocks already in the hands of dealers or users can be distributed, sold, or used legally until they are exhausted, provided that such further sale and use comply with the EPA-approved label and labeling of the affected product. Exception to these general rules will be made in specific cases when more stringent restrictions on sale, distribution, or use of the products or their ingredients have already been imposed, as in a special review action, or where the Agency has identified significant potential risk concerns associated with a particular chemical.

Authority: 7 U.S.C. 136 et seq.

Dated: September 22, 2014.
Jack Housenger,
Director, Office of Pesticide Programs.

[FR Doc. 2014-24253 Filed 10-9-14; 8:45 am]

BILLING CODE 6560-50-P